DEPARTMENT OF DEFENSE

Office of the Secretary

Federal Advisory Committee; DoD Board of Actuaries; Meeting

AGENCY: Department of Defense (DoD).

ACTION: Meeting notice.

SUMMARY: Under the provision of the Federal Advisory Committee Act of 1972 (5 U.S.C., appendix as amended), the Government in the Sunshine Act of 1976 (5 U.S.C. 552b as amended), and 41 CFR 102-3.150, the Department of Defense announces that the DoD Board of Actuaries will meet on July 22 and 23, 2010. Subject to the availability of space, the meeting is open to the public.

DATES: The meeting will be held on July 22, 2010 (from 1 p.m. to 5 p.m.) and on July 23, 2010 (from 10 a.m. to 1 p.m.).

ADDRESSES: The meeting will be held at 4040 N. Fairfax Drive, Suite 250, Arlington, VA 22203.

FOR FURTHER INFORMATION CONTACT: Inger Pettygrove at the DoD Office of the Actuary, 4040 N. Fairfax Drive, Suite 308, Arlington, VA 22203; phone 703-696-7413.

SUPPLEMENTARY INFORMATION:

Agenda

During this meeting the Board will: review DoD actuarial methods and assumptions to be used in the valuations of the Education Benefits Fund, the Military Retirement Fund, and the Voluntary Separation Incentive Fund, in accordance with the provisions of section 183, section 2006, chapter 74 (10 U.S.C. 1464 et seq.), and section 1175 of title 10,

July 22, 1 p.m. to 5 p.m.—Education Benefits Fund

1. Briefing on Investment Experience

2. Developments in Education Benefits

3. Economic Assumptions*

4. September 30, 2009, Valuation and Proposed Per Capita and Amortization Costs Reserve Programs*

5. September 30, 2009, Valuation and Proposed Per Capita and Amortization Costs Active Duty Programs*

July 23, 10 a.m.-1 p.m.—Military Retirement Fund

1. Briefing on Investment experience

2. September 30, 2009, valuation of the military retirement system*

3. Methods and assumptions for September 30, 2010, valuation*

4. Voluntary Separation Incentive (VSI) Fund

5. Recent and proposed legislation

* Board approval required.

Written Statements/Oral Presentations

Persons desiring to make an oral presentation or submit a written statement for consideration at the meeting must notify Inger Pettygrove (see FOR FURTHER INFORMATION CONTACT) by June 24, 2010.

Public Accessibility to the Meeting

Pursuant to 5 U.S.C. 552b and 41 CFR 102-3.140 through 102-3.165, and the availability of space, this meeting is open to the public. Seating is on a first come basis.

Persons desiring to attend the meeting must notify Inger Pettygrove (see FOR FURTHER INFORMATION CONTACT) by June 24, 2010.

Dated: February 4, 2010.
Mitchell S. Bryman,
Alternate OSD Federal Register Liaison Officer, Department of Defense.

[FR Doc. 2010-2750 Filed 2-8-10; 8:45 am]

BILLING CODE 5001-06-P